DEPARTMENT OF ENERGY

Federal Energy Regulatory Commission

[Docket No. ER00-1115-001, et al.]

Calpine Construction Finance Company. L.P., et al.; Electric Rate and Corporate Filings

February 26, 2003.

The following filings have been made with the Commission. The filings are listed in ascending order within each docket classification.

1. Calpine Construction Finance Company, L.P.

[Docket No. ER00-1115-001]

Take notice that on February 24, 2003, Calpine Construction Finance Company, L.P., submitted for filing its triennial market power analysis in compliance with the Commission Order issued in this docket on February 23, 2000.

Comment Date: March 17, 2003.

2. PJM Interconnection, L.L.C.

[Docket No. ER02-1726-000]

Take notice that on January 29, 2003, PJM Interconnection, L.L.C. (PJM) submitted for filing a Notice of Withdrawal of the Facilities Operation Agreement among PJM, Rock Springs Generation, L.L.C., and CED Rock Springs, Inc., filed in the above proceeding on May 6, 2002.

Comment Date: March 7, 2003.

3. PJM Interconnection, L.L.C.

[Docket No. ER02-2562-000]

Take notice that on January 29, 2003, PJM Interconnection, L.L.C., (PJM) tendered for filing a request that the Commission end its deferral of action in a proceeding filed on September 17, 2002 of an Executed Interconnection Service Agreement between PJM and the owners of the Rock Springs Generating Facility.

Comment Date: March 7, 2003.

4. Carolina Power & Light Company and Florida Power Corporation

[Docket No. ER03-540-001]

Take notice that on February 24, 2003, Carolina Power & Light Company, doing business as Progress Energy Carolinas and Florida Power Corporation, doing business as Progress Energy Florida tendered for filing with the Federal Energy Regulatory Commission modifications of their February 14, 2003 filing in this docket. The filing further modifies the creditworthiness provisions so that the OATTs reflect the current climate of credit risk in the industry and corrects clerical errors in the February 14 filing.

Progress Energy Carolinas and Progress Energy Florida respectfully request that the OATT modifications become effective on March 1, 2003 in order to minimize the potential exposure of the companies and their native load customers to unreimbursed expenses.

Progress Energy Carolinas and Progress Energy Florida state that copies of the filing were served upon the public utility's jurisdictional customers, North Carolina Utilities Commission and South Carolina Public Service Commission.

Comment Date: March 17, 2003.

5. Southern California Edison Company

[Docket No. ER03-553-000]

Take notice that on February 24, 2003, Southern California Edison Company (SCE) tendered for filing revised rate sheets (Revised Sheets) for the Power Contract (Power Contract) and the Capacity Exchange Agreement (Capacity Exchange Agreement) between SCE and the Department of Water Resources of the State of California (CDWR). The purpose of this filing is to modify the terms and conditions pursuant to which SCE may curtail the hourly schedules of Return Energy, Additional Energy and Exchange Energy to CDWR to be consistent with the new electric market structure in California, to reflect that SCE has divested its oil and gas-fired generation, and to be consistent with the scheduling protocols of the California Independent System Operator Corporation.

Copies of this filing were served upon the Public Utilities Commission of the State of California and CDWR.

Comment Date: March 17, 2003.

6. Virginia Electric and Power Company

[Docket No. ER03-554-000]

Take notice that on February 24, 2003, Virginia Electric and Power Company (Dominion Virginia Power) tendered for filing an executed Generator Interconnection and Operating Agreement (Interconnection Agreement) between Dominion Virginia Power and Industrial Power Generating Corporation (Ingenco). The Interconnection Agreement sets forth the terms and conditions governing the interconnection between Ingenco's generating facility and Dominion Virginia Power's transmission system.

Dominion Virginia Power requests that the Commission waive its notice of filing requirements and accept this filing to make the Interconnection Agreement effective on February 25, 2003, the day after filing.

Dominion Virginia Power states that copies of the filing were served upon Ingenco and the Virginia State Corporation Commission.

Comment Date: March 17, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, contact FERC Online Support at FERCOnlineSupport@ferc.gov or toll-free at (866)208-3676, or for TTY, contact (202)502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-5094 Filed 3-3-03; 8:45 am]

BILLING CODE 6717-01-P